DEPARTMENT OF ENERGY

Energy Information Administration

Agency Information Collection Activities: Submission for emergency OMB Review; Comment Request

AGENCY: Energy Information Administration (EIA), Department of Energy (DOE).

ACTION: Agency information collection activities: Submission for Emergency OMB review; comment request.

SUMMARY: The EIA has submitted the energy information collections listed at the end of this notice to the Office of Management and Budget (OMB) for emergency processing under section 3507(j)(1) of the Paperwork Reduction Act of 1995 (Pub. L. 104-13) (44 U.S.C. 3501 et seq.). The DOE is requesting an emergency clearance from OMB for the Form EIA-417R by December 18, 2001. This form is used to collect information on emergency situations in U.S. electric power systems. Approval of the request will provide DOE with the time necessary to more thoroughly evaluate its information needs in light of the changed environment since September 11, 2001.

DOE has responsibilities for tracking actual and potential emergency situations on the U.S. electric energy supply system so that Federal emergency response and national security measures can be implemented in a timely and effective manner, as necessary. DOE has had regulations in place since the 1980's requiring electric energy entities to report on systems' incidents and disturbances.

In 1998, the DOE received OMB approval, under Form EIA-417R, to collect electric systems' emergency information through December 31, 2001. DOE is requesting emergency approval to continue use of the existing Form EIA-417R while the revised form is being prepared for submittal to OMB.

During the summer of 2001, DOE developed revised reporting requirements for the form and issued a request for public comments. The Federal Register notice (66 FR 47189) requesting public comments was published on September 11. Given the events of September 11, 2001, public comments received in response to the Federal Register notice, and consultations with affected groups, DOE is reassessing the information it will require on electric power systems' incidents and disturbances. DOE will not complete this reassessment prior to expiration of the EIA-417R's approval, and thus needs to request an emergency 6-month approval to continue collecting information under the existing regulations (10 CFR 205.350—353).

DATES: Comments must be filed with OMB by December 17, 2001.

ADDRESSES: Send comments to the Bryon Allen, OMB Desk Officer for DOE, Office of Information and Regulatory Affairs, Office of Management and Budget. To ensure receipt of the comments by the due date, submission by FAX at 202-395-7285 or e-mail to BAllen@omb.eop.gov is recommended. The mailing address is 726 Jackson Place NW., Washington, DC 20503. The OMB DOE Desk Officer may be telephoned at (202) 395-7318. (A copy of your comments should also be provided to EIA's Statistics and Methods Group at the address below.)

FOR FURTHER INFORMATION CONTACT: Requests for additional information should be directed to Herbert Miller,. To ensure receipt of the comments by the due date, submission by FAX at 202-287-1705 or e-mail to herbert.miller@eia.doe.gov is recommended. The mailing address is Statistics and Methods Group (EI-70), Forrestal Building, U.S. Department of Energy, Washington, DC 20585-0670. Mr. Miller may be contacted by telephone at (202) 287-1711.

SUPPLEMENTARY INFORMATION: This section contains the following information about the energy information collection submitted to OMB for review: (1) The collection number and title; (2) the sponsor (i.e., the Department of Energy component); (3) the current OMB docket number (if applicable); (4) the type of request (i.e, new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Form EIA-417R, “Electric Power System Emergency Report”.

2. Office of Emergency Management, Office of Security and Emergency Operations.

3. OMB Number 1901-0288.

4. Reinstatement (emergency clearance request).

5. Mandatory.

6. The Form EIA-417R serves the purpose of alerting the Federal government about actual or projected incidents that will impact the operational and/or reliability of the Nation's domestic electric power systems. Respondents are the owners and/or operators of the Nation's electric power systems. Data are used to examine the incidents and track recovery process, along with alerting the senior policy makers of the Executive branch.

7. Businesses or other for-profit; Federal Government; Not-for-profit institutions; and State, Local or Tribal Governments.

8. 139 total burden hours; (48 respondents × 1 report × 2.89 hours/report).

Statutory Authority: Section 3507(j)(1) of the Paperwork Reduction Act of 1995 (Pub. L. No. 104-13).

Issued in Washington, D.C., December 4, 2001.
Jay H. Casselberry,
Agency Clearance Officer, Statistics and Methods Group, Energy Information Administration.

[FR Doc. 01-30445 Filed 12-7-01; 8:45 am]

BILLING CODE 6450-01-P